DEPARTMENT OF HOMELAND SECURITY

Coast Guard

46 CFR Part 404

[Docket No. USCG-2009-0552]

Great Lakes Pilotage Ratemaking Methodology

AGENCY: Coast Guard, DHS.

ACTION: Request for public comments.

SUMMARY: The Coast Guard requests public comments on the adequacy of existing regulations that provide the methodology for reviewing and adjusting rates for pilots on the U.S. waters of the Great Lakes. The Coast Guard seeks these comments in order to obtain a better understanding of how well Great Lakes shippers, Great Lakes pilots, and the general public think those formulas represent the realities of commercial shipping on the Great Lakes and fairly balance competing considerations. The Coast Guard will refer the comments it receives to the Great Lakes Pilotage Advisory Committee for review and recommendations.

DATES: Comments and related material must reach the Docket Management Facility on or before October 19, 2009 for consideration.

ADDRESSES: You may submit written comments identified by docket number USCG-2009-0552 using any one of the following:

(1) Federal eRulemaking Portal: http://www.regulations.gov.

(2) Fax: 202-493-2251.

(3) Mail: Docket Management Facility (M-30), U.S. Department of Transportation, West Building Ground Floor, Room W12-140, 1200 New Jersey Avenue, SE., Washington, DC 20590-0001.

(4) Hand delivery: Same as mail address above, between 9 a.m. and 5 p.m., Monday through Friday, except Federal holidays. The telephone number is 202-366-9329.

To avoid duplication, please use only one of these four methods. Our online docket is available on the Internet at http://www.regulations.gov under docket number USCG-2009-0552.

FOR FURTHER INFORMATION CONTACT: If you have questions concerning this notice, please call or e-mail Mr. Paul Eulitt, CG-54122, Coast Guard, telephone 202-372-1537, Coast Guard; e-mail Paul.W.Eulitt@uscg.mil. If you have questions on viewing or submitting material to the docket, call Ms. Renee V. Wright, Program Manager, Docket Operations, telephone 202-366-9826.

SUPPLEMENTARY INFORMATION:

Request for Comments

We encourage you to submit comments and related material in response to this notice. We discuss why we seek comments, and suggest what your comments should cover, under “Background and Purpose.” All comments received will be posted, without change, to http://www.regulations.gov and will include any personal information you have provided.

Submitting comments: If you submit a comment, please include the docket number for this notice (USCG-2009-0552). You may submit your comments and material online, or by fax, mail or hand delivery, but please use only one of these means. We recommend that you include your name and a mailing address, an e-mail address, or a telephone number in the body of your document so that we can contact you if we have questions regarding your submission.

To submit your comment online, go to http://www.regulations.gov, select the Advanced Docket Search option on the right side of the screen, insert “USCG-2009-0552” in the Docket ID box, press Enter, and then click on the balloon shape in the Actions column. If you submit your comments by mail or hand delivery, submit them in an unbound format, no larger than 8½ by 11 inches, suitable for copying and electronic filing. If you submit them by mail and would like to know that they reached the Facility, please enclose a stamped, self-addressed postcard or envelope. We will consider all comments and material received during the comment period.

Viewing comments: To view comments, go to http://www.regulations.gov, select the Advanced Docket Search option on the right side of the screen, insert USCG-2009-0552 in the Docket ID box, press Enter, and then click on the item in the Docket ID column. If you do not have access to the Internet, you may view the docket online by visiting the Docket Management Facility in Room W12-140 on the ground floor of the Department of Transportation West Building, 1200 New Jersey Avenue, SE., Washington, DC 20590, between 9 a.m. and 5 p.m., Monday through Friday, except Federal holidays. We have an agreement with the Department of Transportation to use the Docket Management Facility.

Privacy Act: Anyone can search the electronic form of comments received into any of our dockets by the name of the individual submitting the comment (or signing the comment, if submitted on behalf of an association, business, labor union, etc.). You may review a Privacy Act system of records notice regarding our public dockets in the January 17, 2008, issue of the Federal Register (73 FR 3316).

Background and Purpose

This notice is issued pursuant to the authority granted to the Secretary of Homeland Security by the Great Lakes Pilotage Act of 1960 (“the Act”), 46 U.S.C. Chapter 93 as amended, as delegated by the Secretary to the Coast Guard in Department of Homeland Security Delegation No. 0170.1. The Act requires foreign-flag vessels and U.S.-flag vessels engaged in foreign trade to use federally registered Great Lakes pilots while transiting the St. Lawrence Seaway and the Great Lakes system, and requires the Secretary to “prescribe by regulation rates and charges for pilotage services, giving consideration to the public interest and the costs of providing the services.” 46 U.S.C. 9303(f). Coast Guard regulations implement the Act and can be found in 46 CFR, parts 401 through 404.

The Great Lakes pilotage regulations contain ratemaking formulas that we apply each year in reviewing rates and, if necessary, adjusting them. The formulas appear in appendices to 46 CFR part 404. The final rule for our 2009 rate review and adjustment appears elsewhere in today's Federal Register, and you may consult it for more information about the ratemaking process.

In past years, some commenters on our annual ratemakings have suggested we need to review our ratemaking formulas. Some of these commenters have implied the need for a general review, while others have focused on our definition of “bridge hours.” Bridge hours are a key component in determining the target rate of compensation that our ratemaking aims to provide for pilots, and currently are defined as “the number of hours a pilot is aboard a vessel providing pilotage service.” 46 CFR part 404, Appendix A, Step 2.B(1). Some commenters have suggested that the current definition is too narrow, in part because it does not include a pilot's wait time due to vessel delays or detentions.

At this time, there is no Coast Guard rulemaking project under way to revise our current Great Lakes pilotage regulations, and this notice is not an “advance notice” of a proposed rulemaking nor does it indicate that such a rulemaking has been opened. However, we are interested in obtaining as comprehensive an idea as possible of the extent and nature of any objections to the current ratemaking formulas. We seek a better understanding of how well Great Lakes shippers, Great Lakes pilots, and the general public think those formulas fairly balance competing considerations and represent the realities of commercial shipping on the Great Lakes. Any comments we receive in response to this notice will be referred to the Great Lakes Pilotage Advisory Committee (GLPAC) for GLPAC's review and recommendations. The Act established GLPAC to advise on significant actions or policy formulation affecting Great Lakes pilotage. 46 U.S.C. 9307(d).

If you would like to comment on our ratemaking formulas, we ask that, insofar as possible, you:

• Tell us whether you are a member of the general public, an industry representative, or a pilot;

• Tell us specifically what you like or dislike about the current formulas; and

• Tell us exactly how you would revise our formulas to better serve industry, pilots, and the public—“Write your own formula”.

Dated: July 13, 2009.
Howard L. Hime,
Acting Director of Commercial Regulations and Standards, U.S. Coast Guard.

[FR Doc. E9-17228 Filed 7-20-09; 8:45 am]

BILLING CODE 4910-15-P